DEPARTMENT OF HOMELAND SECURITY

Coast Guard

33 CFR Part 117

[CGD01-07-032]

Drawbridge Operation Regulations; Reynolds Channel, Lawrence, NY

AGENCY: Coast Guard, DHS.

ACTION: Notice of temporary deviation from regulations.

SUMMARY: The Commander, First Coast Guard District, has issued a temporary deviation from the regulation governing the operation of the Atlantic Beach Bridge across Reynolds Channel, mile 0.4, at Lawrence, New York. Under this temporary deviation a one-hour advance notice will be required for bridge openings from April 9, 2007 through April 27, 2007, between 7 a.m. and 3:30 p.m., daily. This deviation is necessary to facilitate scheduled bridge maintenance.

DATES: This deviation is effective from April 9, 2007 through April 27, 2007.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Atlantic Beach Bridge across Reynolds Channel, mile 0.4, at Lawrence, New York, has a vertical clearance in the closed position of 25 feet at mean high water and 30 feet at mean low water. The existing operating regulations are listed at 33 CFR 117.799.

The bridge owner, Nassau County Bridge Authority, requested a temporary deviation to allow the bridge owner to require a one-hour advance notice for bridge openings to facilitate scheduled mechanical bridge maintenance.

Under this temporary deviation a one-hour advance notice shall be required for bridge openings at the Atlantic Beach Bridge from April 9, 2007 through April 27, 2007, between 7 a.m. and 3:30 p.m., daily.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: April 6, 2007.
Gary Kassof,
Bridge Program Manager, First Coast Guard District.

[FR Doc. E7-7155 Filed 4-13-07; 8:45 am]

BILLING CODE 4910-15-P